NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 27, 2025. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 16 U.S.C. 2401 et seq.), as amended by the Antarctic Science, Tourism and Conservation Act of 1996 (Pub. L. 104-227), has developed regulations (45 CFR parts 670 to 674) for the establishment of a permit system for various activities in Antarctica related to the designation of certain animals and certain geographic areas as requiring special protection, among other purposes.

Application Details

Permit Application: 2026-007

1. Applicant: Allyson Hindle, University of Nevada Las Vegas, 4505 S Maryland Parkway, Las Vegas, NV 98154

Activity for Which Permit is Requested: Take, Enter Antarctic Specially Protected Area, Import into the USA (45 CFR 670). The applicant plans to study the dive response of Weddell seals, looking at the influence of short repetitive dives on reperfusion injury. The study's broad objective is to better understand the natural adaptations that allow Weddell seals to tolerate extreme hypoxia during dives. Up to 30 adult Weddell seals per year would be temporarily restrained for blood sample collection and attachment of removable instrumentation. Each seal may be restrained up to 3 times in order to attach, remove, or fix instrumentation. In addition, the applicant plans to collect postpartum placental material, as available, without contacting adults or pups. The applicant may also salvage parts of dead animals if encountered. Contingency access to the marine area of the ASPA 121 would be necessary only in the event that an instrumented seal enters this area. Any such contingency access would be conducted in accordance with the ASPA Management Plan. Collected samples will be imported to the USA for lab analyses.

Location: McMurdo Sound and Erebus Bay, ASPA 121—Cape Royds, Ross Island.

Dates of Permitted Activities: Oct 1, 2025-April 30, 2028.

Permit Application: 2026-008

2. Applicant: Lee Welhouse, 1225 West Dayton Street, Madison, WI 53706

Activity for Which Permit is Requested: Enter Antarctic Specially Protected Area (45 CFR 670). The Applicant requests access to the ASPA 106—Cape Hallett for approximately two days to remove damaged weather station equipment and install new equipment for the Antarctic Meteorological Research and Data Center. Proposed access to the area would include landing a Twin Otter aircraft outside the ASPA and entering by foot to service the weather station equipment. All visits would be in accordance with the ASPA Management Plan.

Location: ASPA 106—Cape Hallett, Northern Victoria Land, Ross Sea.

Dates of Permitted Activities: November 1, 2025-November 21, 2025.

Permit Application: 2026-009

3. Applicant: Jan Helge Pile, ROW Management, LTD, 1551 Sawgrass Corporate Pkwy., #200, Ft. Lauderdale, FL 33323

Activity for Which Permit is Requested: Enter Antarctic Specially Protected Area (45 CFR 670). The Applicant requests access to the ASPAs 155—Cape Evans, 157—Backdoor Bay, 158—Hut Point, and 159—Cape Adare in association with visits to historic huts for the purpose of educational tourism. A motor vessel would provide access to the ASPAs with small boats providing access to the historical sites ashore. Up to 200 persons would enter each ASPA and visitors would be continuously supervised by expedition guides trained in the history and preservation of the historic huts with a maximum of 10 tourists per guide. All visits would be in accordance with the management plan for each ASPA.

Location: ASPA 155—Cape Evans, Ross Island; ASPA 157—Backdoor Bay, Cape Royds, Ross Island; ASPA 158—Hut Point, Ross Island; ASPA 159—Cape Adare, Borchgrevink Coast.

Dates of Permitted Activities: January 25, 2026-February 7, 2026.

Jean C. Allen,
Office Director, Office of Polar Programs.

[FR Doc. 2025-18745 Filed 9-25-25; 8:45 am]

BILLING CODE 7555-01-P